DEPARTMENT OF ENERGY

Federal Energy Regulatory Commission

[Docket No. RP01-521-001]

Trailblazer Pipeline Company; Notice of Compliance Filing

October 16, 2001.

Take notice that on October 11, 2001, Trailblazer Pipeline Company (Trailblazer) tendered for filing to be a part of its FERC Gas Tariff, Third Revised Volume No. 1, Second Revised Sheet No. 114, to be effective December 1, 2001.

Trailblazer states that this tariff sheet was filed in compliance with the Commission's Letter Order issued in the referenced docket on September 26, 2001.

Trailblazer states that copies of the filing have been mailed to all parties set out on the Commission's official service list in Docket No. RP01-521.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26501 Filed 10-22-01; 8:45 am]

BILLING CODE 6717-01-P